DEPARTMENT OF AGRICULTURE

Submission for OMB Review; Comment Request

April 28, 2011.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602.

Dates: Comments regarding these information collections are best assured of having their full effect if received by June 2, 2011. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Dairy Request for Applicant Number.

OMB Control Number: 0581—NEW.

Summary of Collection: The dairy grading program is a voluntary user fee program providing grading and inspection service to the dairy industry. The program is authorized under the Agricultural Marketing Act of 1946 (7 U.S.C. 1621-1627).

Need and Use of the Information: The Agricultural Marketing Service will collect the information on two new forms (1) DA-228—Request for Applicant Number, and (2) DA-229—Export Applicant Number Activation. The information requested will be used by the Administrative Officer to identify the applicant in the billing system, to set up an account in the billing system and contact the party responsible for payment of the fee and expense for the inspection, certification, and grading or equipment evaluation service.

Description of Respondents: Business or other for-profit.

Number of Respondents: 200.

Frequency of Responses: Reporting: On occasion.

Total Burden Hours: 10.

Agricultural Marketing Service

Title: USDA Web Based Supply Chain Management System (WBSCMs).

OMB Control Number: 0581—NEW.

Summary of Collection: Section 32 of the Act of August 24, 1935, as amended (Section 32 Public Law 74-320; 7 U.S.C. 612c); Sections 6(a) and (e), 13, and 17 of the National School Lunch Act, as amended, (42 U.S.C. sections 1751, 1761, and 1766) in addition to several other acts authorize the Agricultural Marketing Service (AMS) Procurement Branches to prepare and issue announcements for the purchase and sale of perishable agricultural commodities. AMS purchases agricultural commodities for the Section 32 and 6a & e National School Lunch Program/Child & Adult Care Food Program; Nutrition Service Incentive Program; Food Distribution Program on Indian Reservations; Commodity Supplemental Food Program; The Emergency Food Assistance Program and Disaster Feeding in addition to providing support for commodity markets with surplus inventory.

Need and Use of the Information: AMS issues solicitation for offers in order to solicit bids for commodities for delivery to domestic nutrition assistance programs. Vendors respond by making electronic offers using the secure Web Based Supply Chain Management System (WBSCM). Vendors must be registered, and have an ID and password, in order to submit bids electronically through WBSCM via the Internet. The information will change in response to the needs of the domestic feeding programs and each solicitation. Information collected has been consolidated into three processes— a New Vendor Application, Bid Solicitation and Contract Delivery, Invoice Submission and Inspection Results. The data collected from vendors assists AMS with making a determination whether a business is viable and capable of supplying product to the Federal government.

Description of Respondents: Business or other for profit; Farms.

Number of Respondents: 320.

Frequency of Responses: Reporting: On occasion; Weekly; Monthly; Quarterly.

Total Burden Hours: 1,680.

Charlene Parker,
Departmental Information Collection Clearance Officer.

[FR Doc. 2011-10714 Filed 5-2-11; 8:45 am]

BILLING CODE 3410-02-P